DEPARTMENT OF THE INTERIOR

National Park Service

[NPS-WASO-NAGPRA-22252; PPWOCRADN0-PCU00RP14.R50000]

Notice of Intent To Repatriate Cultural Items: U.S. Army Corps of Engineers, Omaha District, Omaha, NE

AGENCY: National Park Service, Interior.

ACTION: Notice.

SUMMARY: The U.S. Army Corps of Engineers, Omaha District (Omaha District), in consultation with the appropriate Indian tribes or Native Hawaiian organizations, has determined that the cultural items listed in this notice meet the definition of unassociated funerary objects. Lineal descendants or representatives of any Indian tribe or Native Hawaiian organization not identified in this notice that wish to claim these cultural items should submit a written request to the Omaha District. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Omaha District at the address in this notice by December 9, 2016.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is hereby given in accordance with the Native American Graves Protection and Repatriation Act (NAGPRA), 25 U.S.C. 3005, of the intent to repatriate cultural items under the control of the Omaha District, Omaha, NE., that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Cultural items consisting of seven unassociated funerary objects that were collected from 39WW7, the Swan Creek site, Dewey County, South Dakota, are presently located at the South Dakota State Archaeological Research Center (SARC), under the managerial control of the Omaha District.

The Swan Creek site, 39WW2 was an earthlodge village and cemetery that was excavated between 1954 and 1956 prior to inundation by flood waters of the Oahe Reservoir. Over 125 sets of human remains were recovered, and 102 of these individuals are currently housed at SARC and reported under a separate Notice of Inventory Completion. Human remains of the other individuals were reburied in 1986 at site 39ST15.

SARC currently holds seven funerary objects that were originally collected with individuals that were reburied. The excavation records clearly show these items as having been removed from the burial of a specific individual. These seven unassociated funerary objects are one lithic projectile point and six ceramic body sherds from the same ceramic vessel.

Site 39WW7 is an earthlodge village and associated cemetery. Based on village organization, fortifications, geographic location and features, as well as the associated artifact assemblage, the site is believed to represent at least two major time periods, the Akaska Focus of the Extended Coalescent (A.D. 1500-1675) and the Le Beau Phase of the Post Contact Coalescent (A.D. 1675-1780) of the Plans Village tradition. Based on oral tradition, historic accounts, archaeological evidence, geographical location, and physical anthropological interpretations, both the Extended and Post Contact Coalescent variants are believed to be ancestral Arikara. The Arikara are represented today by the Three Affiliated Tribes of the Fort Berthold Reservation. Consultation with the Three Affiliated Tribes of the Fort Berthold Reservation indicates that these objects represent the kinds of objects that are placed with individuals at the time of death.

Determinations Made by the Omaha District

Officials of the Omaha District have determined that:

• Pursuant to 25 U.S.C. 3001(3)(B), the seven cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and Three Affiliated Tribes of the Fort Berthold Reservation, North Dakota.

Additional Requestors and Disposition

Lineal descendants or representatives of any Indian tribe or Native Hawaiian organization not identified in this notice that wish to claim these cultural items should submit a written request with information in support of the claim to Ms. Sandra Barnum, U.S. Army Engineer District, Omaha, ATTN: CENWO-PM-AB, 1616 Capital Avenue, Omaha, NE 68102, telephone, (402) 995-2674, email sandra.v.barnum@usace.army.mil, by December 9, 2016. After that date, if no additional claimants have come forward, transfer of control of the unassociated funerary objects to the Three Affiliated Tribes of the Fort Berthold Reservation, North Dakota.

The Omaha District is responsible for notifying the Three Affiliated Tribes of the Fort Berthold Reservation, North Dakota, that this notice has been published.

Dated: October 24, 2016.
Melanie O'Brien,
Manager, National NAGPRA Program.

[FR Doc. 2016-26975 Filed 11-8-16; 8:45 am]

BILLING CODE 4312-52-P